FEDERAL COMMUNICATIONS COMMISSION

47 CFR Parts 73 and 76

[MM Docket No. 98-204; DA 02-1025]

En Banc Hearing on Broadcast and Cable EEO Rules and Policies

AGENCY: Federal Communications Commission.

ACTION: Proposed rule; clarification.

SUMMARY: On June 20, 2002, the Commission released a document announcing the June 24, 2002, en banc hearing to discuss issues and views on the Commission's proceeding to promulgate new broadcast and cable equal employment opportunity (EEO) rules. The intended effect of this action is to clarify the public notification of the Commission's en banc hearing.

DATES: The en banc hearing will convene from 10 a.m. to 1 p.m. on June 24, 2002.

ADDRESSES: The hearing will be held at the Federal Communications Commission, 445 12th Street, SW., Washington, DC in the Commission Meeting Room (Room TW-C305).

FOR FURTHER INFORMATION CONTACT: Jamila Bess Johnson, Media Bureau. (202) 418-7200.

SUPPLEMENTARY INFORMATION: 1. By a document dated and released June 20, 2002, the Federal Communications Commission announced that it will hold an en banc hearing open to the public. The purpose of the en banc is to assist the Commission in its examination of the EEO rules applicable to broadcast and cable entities.

2. The en banc hearing was previously announced in Public Notice DA 02-1025 (May 3, 2002), but that public notice inadvertently was not published in the Federal Register. Accordingly, the Commission re-released the public notice pursuant to § 0.605(e) of its rules, 47 CFR 0.605(e). The Commission determined that to the extent the previous public notice was insufficient for purposes of § 0.605, the prompt and orderly conduct of the Commission's business required that this notice be issued less than one week prior to the en banc hearing and that earlier notice was not practicable, since the failure to publish the earlier public notice was just discovered.

Federal Communications Commission.
W. Kenneth Ferree,
Chief, Media Bureau.

[FR Doc. 02-16190 Filed 6-26-02; 8:45 am]

BILLING CODE 6712-01-P